INTER-AMERICAN FOUNDATION

Sunshine Act Meetings; Board Meeting

Time and Date: January 28, 2008 9 a.m.-2:30 p.m.

Place: 901 N. Stuart Street, Tenth Floor, Arlington, Virginia 22203.

Status: Open to the public.

Matters to be Considered: • Approval of the Minutes of the October 1, 2007, Meeting of the Board of Directors

• President's Report

• Program Update

• Operations Update

• Congressional Affairs

• External Affairs

• Advisory Council

Portions to be Open to the Public: • Approval of the Minutes of the October 1, 2007, Meeting of the Board of Directors

• President's Report

• Program Update

• Operations Update

• Congressional Affairs

• External Affairs

• Advisory Council

Contact Person for more Information: Jennifer R. Hodges, General Counsel, (703) 306-4320.

Dated: January 14, 2008.
Jennifer R. Hodges,
General Counsel.

[FR Doc. 08-197 Filed 1-16-08; 11:03 am]

BILLING CODE 7025-01-P